FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

3 Plus Logistics Co. dba Touchdown Freight Co. (NVO & OFF), 20250 S. Alameda Street, Rancho Dominguez, CA 90221. Officers: Kyung S. Kim, Treasurer/CFO (Qualifying Individual), Peter Y.S. Kim, President/CEO/Secretary. Application Type: Trade Name Change.

Amada Shipping Inc. (NVO & OFF), 27522 Via Valor, Capo Beach, CA 92624. Officers: Dana D. Fraser, President/Treasurer (Qualifying Individual), Yuxing Qian, Secretary. Application Type: New NVO & OFF License.

ASO Logistics, Inc. (NVO), 3120 Via Mondo, Rancho Dominguez, CA 90220. Officer: Simon Hwang, President/CEO/Secretary/Treasurer/CFO (Qualifying Individual). Application Type: New NVO License.

Atlas Air Freight System, Inc. dba Kenny International USA (NVO), 222 E. Redondo Beach Boulevard, Suite G, Gardena, CA 90248. Officer: Min Soo (A.K.A. Michael) Shin, President/Sec./Treasurer (Qualifying Individual). Application Type: New NVO License.

BDL Logistics L.L.C. (NVO & OFF), 2387 Indigo Harbour Lane, League City, TX 77573. Officers: Reina G. Louden, Managing Member (Qualifying Individual), Bradley D. Louden, Managing Member. Application Type: Name Change/Business Structure Change.

Cardinal Health 200, LLC (NVO & OFF), 7000 Cardinal Place, Dublin, OH 43017. Officers: Warren B. Hastings, Vice President (Qualifying Individual), Stephan A. Inacker, President and GM. Application Type: New NVO & OFF License.

Clover Systems, Inc. dba Clover Marine (NVO & OFF), 1910 NW 97 Avenue, Miami, FL 33018. Officers: Holly A. Olivares, Vice President (Qualifying Individual), Luis A. Rincon, President. Application Type: QI Change.

Convenient Freight System, Inc. (NVO), 690 Knox Street, #220, Torrance, CA 90502. Officers: Kook (A.K.A. Joseph) S. Lee, Vice President (Qualifying Individual), Bum K. Suh, President/Secretary/CFO. Application Type: QI Change.

Euro Cargo Express Inc. dba Pacific Anchor Line Group (NVO), 154-09 146th Avenue, Jamaica, NY 11434. Officers: Barbara Hiebendahl, Secretary (Qualifying Individual), Carlo Paravani, President/CEO. Application Type: QI Change/Trade Name Change.

IMAC International Corp (NVO & OFF), 527 Albert Street, East Meadow, NY 11554. Officers: Ben Leung, Secretary (Qualifying Individual), Eric Tang, President. Application Type: New NVO and OFF License.

Logikor USA, Inc. (NVO & OFF), 3422 Old Capital Trail, #1516, Wilmington, DE 19808-6192. Officers: Rick Morgan, Director (Qualifying Individual), Darryl King, President. Application Type: New NVO & OFF License.

Logistic Network of America LLC (NVO & OFF), 17501 Biscayne Boulevard, Suite 590, Miami, FL 33160. Officers: Diana Y. Orsini, Manager (Qualifying Individual), Arturo Altamirano, Manager. Application Type: New NVO & OFF License.

LTA Import & Export, Inc. (NVO & OFF), 14331 SW 120th Street, #203, Miami, FL 33186. Officers: Eric E. Diaz, Director of Sales & Marketing (Qualifying Individual), Lester Trimino, Sr., President. Application Type: New NVO & OFF License.

M.E. Dey & Co., Inc. dba Rolland Dey Container Line (NVO & OFF), 700 W. Virginia Street, #300, Milwaukee, WI 53204. Officers: Randall Kupfer, Vice President (Qualifying Individual), Robert L. Gardenier, President. Application Type: Trade Name Change.

Procargo USA, LLC (NVO & OFF), 1609 NW 82nd Avenue, Doral, FL 33126. Officer: Sarisbel Lozano, Manager (Qualifying Individual), Alberto P. Martinez, Manager. Application Type: QI Change.

Puerto Cortes Express, Inc. (NVO), 9930 NW 21st Street, #201, Miami, FL 33172. Officer: Jacqueline Reyes, President (Qualifying Individual). Application Type: New NVO License.

S & B Shipping & Trading Inc. (NVO & OFF), 1271 Ralph Avenue, Brooklyn, NY 11236. Officers: Sebastian T. King, Director/Treasurer/Secretary/VP/COO (Qualifying Individual), Bunny B. Bernard, Director/President/CEO. Application Type: New NVO & OFF License.

Savannah Logistical Services, LLC dba Savannah Logistical Services dba SLS (NVO & OFF), 145 Distribution Drive, Pooler, GA 31322. Officers: Rodney A. Gonzalez, Secretary (Qualifying Individual), James W. Coley, Managing Member/President. Application Type: New NVO & OFF License.

UniGroup Worldwide Logistics, LLC (OFF), One Premier Drive, Fenton, MO 63026. Officers: Frederick J. Parshley, Vice President (Qualifying Individual), Patrick J. Larch, Jr., Director & President. Application Type: New OFF License.

United Sunfine Logistics, Inc. (NVO), 20277 Valley Boulevard, Suite K, Walnut, CA 91789. Officers: Meiling Chan, CFO/Secretary (Qualifying Individual), Jie Chen, CEO. Application Type: QI Change.

W8 Shipping LLC (OFF), 8 Aviation Court, Savannah, GA 31408. Officers: Darius Ziulpa, Member (Qualifying Individual), Gediminas Garmus, Member/Manager. Application Type: New OFF License.

World Logistics USA, Inc. (OFF), 173 Route 526, Allentown, NJ 08501. Officers: Wladyslaw Kopec, President (Qualifying Individual), Anthony P. Marco, Vice President/Treasurer. Application Type: New OFF License.

Dated: July 8, 2011.
Karen V. Gregory,
Secretary.

[FR Doc. 2011-17629 Filed 7-12-11; 8:45 am]

BILLING CODE P